DEPARTMENT OF AGRICULTURE

Forest Service

Butte County Resource Advisory Committee (RAC)

AGENCY: Forest Service, USDA.

ACTION: Notice of Meeting.

SUMMARY: The Butte County Resource Advisory Committee (RAC) will hold a meeting on August 29, 2011 in Oroville, CA. The purpose of the meeting is to review Cycle 2 project applications for potential funding recommendations to Lassen, Plumas or Mendocino National Forest Supervisors. The funding is made available under Title II provisions of the Secure Rural Schools and Community Self-Determination Act of 2000. This is the last cycle of funding under the current legislation.

DATES & ADDRESSES: The meeting will take place from 6:30-9 p.m. at the Feather River Ranger District Office, 875 Mitchell Avenue, Oroville, CA.

FOR FURTHER INFORMATION CONTACT: (or for special needs): Lee Anne Schramel Taylor, Forest Coordinator, USDA, Plumas National Forest, P.O. Box 11500/159 Lawrence Street, Quincy, CA 95971; (530) 283-7850; or by e-mail eataylor@fs.fed.us. Other RAC information may be obtained at http://www.fs.usda.gov and http://www.fs.fed.us/srs.

Dated: August 11, 2011
Laurence Crabtree,
Deputy Forest Supervisor.

[FR Doc. 2011-21119 Filed 8-17-11; 8:45 am]

BILLING CODE 3410-11-P